SMALL BUSINESS ADMINISTRATION

[Declaration of Economic Injury Disaster #9W68]

Commonwealth of Pennsylvania

Tioga, McKean, and Potter Counties and the contiguous counties of Bradford, Cameron, Clinton, Elk, Forest, Lycoming, and Warren in the Commonwealth of Pennsylvania; and Allegany, Cattaraugus, Chemung, and Steuben in the State of New York constitute an economic injury disaster loan area as a result of severe storms and flooding that occurred throughout the counties from July 21 to July 28, 2003. Eligible small businesses and small agricultural cooperatives without credit available elsewhere may file applications for economic injury assistance as a result of this disaster until the close of business on May 12, 2004 at the address listed below or other locally announced locations: Small Business Administration, Disaster Area 1 Office, 360 Rainbow Blvd, South 3rd Floor, Niagara Falls, NY 14303.

The interest rate for eligible small businesses and small agricultural cooperatives is 2.953 percent.

The numbers assigned for economic injury for this disaster are 9W6800 for Pennsylvania and 9W6900 for New York.

(Catalog of Federal Domestic Assistance Program No. 59002.)
Dated: August 12, 2003.
Hector V. Barreto,
Administrator.

[FR Doc. 03-21251 Filed 8-19-03; 8:45 am]

BILLING CODE 8025-01-P